DEPARTMENT OF LABOR

Employment and Training Administration

Notice of Availability of Funds and Solicitation for Grant Applications (SGA) for the Science, Technology, Engineering, and Mathematics (STEM) Opportunities in the Workforce System Initiative

Announcement Type: New. Notice of Solicitation for Grant Applications.

Funding Opportunity Number: SGA/DFA PY 07-03.

Catalog of Federal Assistance Number: 17.268

Key Dates: This competition will be implemented in two phases, a preliminary proposal phase (Phase I) and a full proposal phase (Phase II), with a closing date for each phase for receipt of applications. For Phase I of the competition, preliminary proposals must be received at the address below no later than 4 p.m. (ET) on March 11, 2008. All applicants are required to submit Phase I proposals. A virtual Prospective Applicant Conference will be held for this grant competition on January 25, 2008 at 2 p.m. (ET). Additional information and links to registration for this Virtual Prospective Applicant Conference can be found at http://www.workforce3one.org/public/webinars/details.cfm?id=266.

After completion of review of Phase I proposals, selected applicants will receive a notice of recommendation to participate in Phase II of the competition and in this notification, further information regarding the Phase II submission deadline will also be provided. Applicants may only participate in the Phase II competition after receiving notice of recommendation. Please note that applicants that only submit full proposals will not be reviewed.

SUMMARY: The Employment and Training Administration (ETA), U.S. Department of Labor (DOL), announces the availability of approximately $10 million in grant funds for the Science, Technology, Engineering, and Mathematics (STEM) Opportunities in the Workforce System Initiative (STEM Initiative). These grants will be awarded through a two-phased competitive process to primarily expand and align current and new STEM workforce education and training strategies, activities, and resources in One Stop Career Centers to promote, attract, and prepare disadvantaged youth and dislocated workers for STEM careers, while simultaneously enhancing the competitive position of local and regional employers.

Grants will be awarded to a select number of individual workforce investment boards (WIBs), representing a regional consortium of WIBs. A WIB must submit an application on behalf of a specific, defined multi-county economic region comprised of various workforce investment areas that make up the consortium. Joint applications for regions that cross state lines will be accepted. Applications for multi-state regions must be from an individual WIB that will have responsibility for administering the project. This solicitation contains an exception if the defined region is a rural area or a portion of a state whereby only one WIB exists.

In awarding STEM Initiative grants, every effort will be made to fairly distribute grants across rural and urban areas and across the different geographic regions of the United States. It is anticipated that the number of awards will range from five to seven, with the average award ranging from $1.5 million to $2 million.

This solicitation provides background information and describes the application submission requirements, outlines the process that eligible entities must use to apply for funds covered by this solicitation, and details how grantees will be selected.

ADDRESSES: Mailed applications must be addressed to the U.S. Department of Labor, Employment and Training Administration, Division of Federal Assistance, Attention: Marsha Daniels, Reference SGA/DFA PY 07-03, 200 Constitution Avenue, NW., Room N-4716, Washington, DC 20210. Telefacsimile (FAX) applications will not be accepted. Information about applying online can be found in Part IV(C) of this document. Applicants are advised that mail delivery in the Washington area may be delayed due to mail decontamination procedures. Hand delivered proposals will be received at the above address.

SUPPLEMENTARY INFORMATION: This solicitation consists of eight parts:

• Part I is the funding opportunity description that includes background information, the overview and details of the STEM Initiative including the five key features, project scope and allowable activities, and an outline of objectives and goals.

• Part II describes the size and nature of the anticipated awards.

• Part III describes eligibility information and other grant specifications.

• Part IV provides information on the application and submission process for the preliminary (Phase I) and full proposal (Phase II) submissions.

• Part V describes the criteria against which applications will be reviewed and evaluated, and explains the proposal review process for Phase I and II.

• Part VI provides award administration information.

• Part VII contains DOL agency contact information.

• Part VIII lists additional resources of interest to applicants.

I. Funding Opportunity Description

A. Background

There is broad consensus that the long-term key to continued U.S. competitiveness and growth in an increasingly global economic environment is the adequate supply of qualified Science, Technology, Engineering, and Mathematics (STEM) workers capable of translating knowledge and skills into new processes, products, and services. According to the National Science Foundation (NSF), scientific innovation has produced roughly half of all U.S. economic growth in the last fifty years and the STEM fields, including those who work in them, are critical engines to that innovation and growth. According to one recent estimate, while only five percent of the U.S. workforce is employed in STEM fields, the STEM workforce accounts for more than fifty percent of the nation's sustained growth (Babco 2004).

The engine of growth is increasingly precarious in today's global economy and American pre-eminence in STEM will not be secured or extended without addressing the education and workforce pipeline challenges that have become a growing national concern. The National Academy of Sciences study, Rising Above the Gathering Storm (2006), argues that, absent a serious and rapid response, the U.S. will lose quality jobs to other nations; lowering our standard of living, reducing tax revenues, and weakening the domestic market for goods and services. Once this cycle accelerates, it will be difficult to regain lost preeminence in technology-driven innovation and its economic benefits.

The STEM education and workforce challenges are multi-faceted and five major trends have been identified that will dramatically impact the STEM pipeline of the future: (1) An increasing number of high school graduates with insufficient academic grounding in STEM to successfully enter post-secondary education geared to STEM careers; (2) waning enrollment in technical studies, including two- and four-year college level, graduate, and post-graduate science and engineering programs; (3) impending retirement of a large portion of the existing STEM workforce; (4) declining immigration of science, technology, engineering, and mathematics professionals in STEM fields; and (5) difficulty attracting and retaining a cadre of highly qualified STEM teaching professionals.

However, the STEM workforce pipeline challenge is not just about the supply and quality of the baccalaureate and advance degree earners. A large percentage of the workforce in industries and occupations that rely on STEM knowledge and skills are technicians, including others who enter and advance in their field through sub-baccalaureate degrees and certificates or through workplace training. Competitiveness in STEM fields requires a focus on the skills and the supply of those involved in STEM fields from the most complex research and development leadership positions to production, repair, marketing, sales, and other jobs that require competencies built upon math, science, engineering, and technology knowledge. Creating interest and preparing more Americans to be productive in STEM-related jobs will require attention to segments of the workforce that are often overlooked in STEM discussions: incumbent workers who need skills upgrading, dislocated workers who are trying to find new jobs in industries with a future, and individuals from groups traditionally underrepresented in STEM fields.

The seriousness of this STEM-related challenge has penetrated public and opinion-makers' consciousness; and government, industry, academia, and foundations have begun to respond in an unprecedented way. In October 2005, the Government Accountability Office inventoried the Federal programs that were designed to increase the numbers of students and graduates in STEM fields or to improve the quality of education in those areas. From this inventory, it is reported that 13 Federal agencies spent a total of $2.8 billion for 207 programs that were designed to increase the number of students and graduates or to improve educational programs in STEM fields. Six Federal agencies spent the bulk of the reported funding for STEM education: National Institutes of Health (NIH), followed by NSF, National Aeronautics and Space Administration (NASA), Department of Education, Environmental Protection Agency (EPA), and the Health Resources and Services Administration.

In his 2006 State of the Union address, the President proposed the American Competitiveness Initiative (ACI) to strengthen education, promote research and development, and encourage entrepreneurship. Specifically, ACI proposes to create and expand on a number of programs targeted at improving K-12 math and science education, increasing professional development for teachers, attracting new teachers to the classroom, developing research-based curricula, and providing access to flexible resources for worker training. In addition to the proposed efforts under ACI, the Deficit Reduction Act was signed into law and established the Academic Competitiveness Council, a cabinet-level group tasked with coordinating and evaluating the Federal role in math and science education, in an effort to align government policies and programs to better address STEM education.

In addition to this Federal effort, industry associations, businesses, state governments, foundations, and other organizations have launched a variety of programs and competitions that target K-12, undergraduate, and graduate students in STEM fields. For example, industry associations that include: the Society of Manufacturing Engineers, the American Chemical Society, the American Physical Society, the National Association of Manufacturers, and the National Science and Technology Education Partnership have invested in STEM education initiatives that involve curricular improvements, career-focused Web sites, mentoring programs, and scholarships; while corporate foundations including Raytheon, Bayer, and General Electric have created their own outreach programs. Despite these efforts, much remains to be done within government and across diverse public and private sectors to ensure that U.S. education, workforce, and economic systems rise to the STEM challenge.

ETA will invest $14 billion in a national public workforce development system to increase the skills and education of the current and emerging workforce, and is committed to becoming an important contributor to a robust national strategy for tackling the STEM workforce pipeline challenge. To that end, ETA recently launched a STEM action agenda which includes three focus areas: (1) Building the gateway to STEM careers; (2) enhancing the capacity of talent development institutions to produce more and better-skilled STEM workers; and (3) catalyzing and supporting innovation, entrepreneurship, and economic growth that can expand STEM employment opportunities.

In addition, ETA launched the Workforce Investment in Regional Economic Development (WIRED) Initiative in 2006, which focuses on the role of talent development in driving regional economic competitiveness, increased job growth, and new opportunities for American workers. Thirty-six of the 39 WIRED regions are targeting STEM-related industries for economic growth in their regions.

ETA believes that responding to the STEM challenge will require a concerted and multi-faceted partnership approach; the public workforce investment system is uniquely positioned in many communities to be an important partner in these efforts because of its universal access to human capital, its strong partnerships, and its support of high growth industries, many of which require a highly skilled and educated STEM workforce. The STEM Initiative creates a way for the public workforce system to help develop and broaden the talent pool of the current and future STEM workforce in regions throughout the country, and to act as a catalyst in these important efforts.

B. STEM Initiative Description

The STEM Initiative will make resources and technical assistance available to a select number of consortiums of WIBs representing regional economies across the country. These resources will : (1) Help to develop and enhance the STEM capabilities of the regions by aligning and expanding current workforce education and training strategies, activities, and resources in the One Stop Career Centers; (2) promote, attract, and prepare a broader range of workforce system participants for STEM careers; and (3) simultaneously enhance the competitive position of local and regional STEM employers.

The linchpin to a coordinated and strategic regional STEM approach will be the strategic partnerships that will be developed, enhanced, and expanded under this Initiative. For this solicitation, ETA requires at a minimum, partnerships to include the workforce investment system, the continuum of education, and STEM employers. However, stronger connections between the workforce system and educational institutions, e.g. multiple educational pathway programs, adult education, community colleges, and four year colleges and universities, including other Federal agencies, nonprofit organizations, employer associations, faith and community-based organizations, and STEM professional societies, will also be essential in leveraging assets and filling gaps where expertise, financial, and operational resources are missing.

The objectives of the STEM Initiative will be reached through five key features:

1. STEM One Stop Workforce Centers of Excellence;

2. STEM Coaches;

3. STEM Mentors;

4. Career Blueprints; and

5. Technical Assistance.

It is ETA's expectation that all applications will reflect and clearly articulate the operationalization of these key features of the STEM Initiative described below, and which are reflected in the evaluation criteria in Part V.

1. STEM One Stop Workforce Centers of Excellence

STEM One Stop Workforce Centers of Excellence (STEM Centers of Excellence), either virtual or site-based, will be established in One Stop Career Centers by a regional WIB consortium under this Initiative to achieve a number of goals: (1) Expand the capacity of the One Stop Career Centers to train and prepare individuals, with special emphasis on disadvantaged youth and dislocated workers, along the STEM career ladder/lattice with multiple entry and exit points; (2) leverage and align STEM education and training resources from a variety of funding sources and entities, so that individuals have expanded education and training options, and are served in a more coordinated and effective fashion; (3) understand the workforce needs of STEM employers and meet those needs with a variety of services, including placing skilled and prepared workers into STEM jobs; (4) support the establishment and strengthening of partnerships to ensure optimal STEM expertise and resources are available in the One Stop Career Centers; and (5) provide a replicable demonstration model as a resource for other One Stop Career Centers.

Five to seven STEM Centers of Excellence will be expected to build upon the current infrastructure and capabilities of the One Stop system. Grant funds used to develop the STEM Centers of Excellence must be used to also enhance and expand a variety of participant and employer services with a sole focus on STEM fields. The goal of this SGA is to develop strategies that support more workers to obtain post-secondary education and training leading to employment in STEM fields. NSF defines the following as STEM fields:

i. Biological Sciences (with the exception of medicine and other clinical fields);

ii. Physical Sciences, including physics, chemistry, astronomy, and materials science;

iii. Mathematical Sciences;

iv. Computer and Information Science;

v. Engineering; and

vi. Technology areas associated with the preceding fields—for example, biotechnology, chemical technology, engineering technology, nanotechnology, and information technology (with the exception of health, veterinary, or medical technicians).

The STEM resources and activities available through the STEM Centers of Excellence will provide individuals engaged in a STEM career pathway and STEM employers with a customized set of services that are driven by regional employer demand. The STEM Initiative will give special emphasis to disadvantaged youth in multiple educational pathway programs (i.e. alternative education) and dislocated workers, although other individuals with STEM aptitudes and/or interests may also be served in the STEM Centers of Excellence. While One Stop Career Centers have not traditionally targeted disadvantaged youth populations, it is the expectation of this solicitation that applicants will consider how to better address the needs of this integral STEM pipeline within the STEM Centers of Excellence.

Career Guidance. Under this Initiative, STEM Centers of Excellence will provide and coordinate career awareness and guidance activities that clarify the range of opportunity along the STEM career ladder/lattice and debunk myths around the inaccessibility of STEM careers due to the perceived academic requirements. The enormous variety of STEM occupations will require career guidance information on alternative career pathways/career lattice models and non-academic training routes. Some of these career awareness, guidance activities, and products under the STEM Initiative may be provided by connecting with existing projects and/or funding that may have already developed valuable STEM career guidance materials, such as those from the High Growth Job Training Initiative, Community-Based Job Training Grants grantees, Career Voyages Web site (http://www.careervoyages.gov/), professional associations, and other government agencies.

To indicate the range of opportunities for individuals, the following is an example of a career ladder in advanced manufacturing:

• Entry level (laborer, packer, machine operator);

• Mid-level or two-year degree or tech prep (engineering technician, electronic technician, instrument maker, laboratory technician, mechanical technician); and

• Professional level (chemist, physicist, scientist, mechanical engineer, biochemical engineer).

Training and Educational Opportunities. The major focus of the STEM Initiative is to allow participants to have access to a variety of educational, training, and retraining opportunities through numerous funding mechanisms and entities, with the goal of receiving a post-secondary degree or an industry-recognized license, certificate, or credential that will lead to job placement in a STEM occupation. These education and training opportunities may range from a short-term training program leading to a certificate, to an associate's or bachelor's degree course of study, to work-based learning opportunities such as pre-apprenticeships and apprenticeships, internships, and on-the-job training.

ETA expects that the regional WIB consortium will coordinate through the STEM Centers of Excellence the integration of funding and activities available through the Workforce Investment Act of 1998 (WIA), and its partners with current STEM activities funded through other sources such as: NSF, Departments of Education, Energy and Defense, NASA, and EPA to enhance and expand workforce system participants' STEM education and training opportunities and experiences.

Applicants may pilot Career Advancement Accounts (CAAs) as part of this Initiative, which are self-managed accounts that enable current and future workers to gain skills needed to succeed in 21st century jobs. In addition, applicants are encouraged to create STEM-related registered apprenticeship programs and ETA will provide technical assistance, if needed.

Other Participant Services. Participant services provided in the STEM Centers of Excellence through a STEM Coach (described below) may include, but are not limited to:

• Intake/recruitment;

• Assessment of STEM interest and aptitude, including identification of skill gaps inhibiting employment opportunities, certifications, specific credentials, security clearances, technical skills, and business/soft skills;

• Development of a Career Blueprint (described below) based on the assessment;

• Job search and placement support provided by STEM Coaches and partnering employers; and

• STEM Mentors (described below).

An important part of each project will be the industry's identification of skills and competencies required in the STEM workforce region, which will require a strong partnership between regional STEM employers and training and education providers including the K-12 (primarily high schools and career and educational high schools), adult education, community and technical colleges, four year colleges and universities, and other training entities. This partnership will ensure that all participant activities in the STEM Centers of Excellence will be aligned with industry-driven STEM workforce education and training strategies including competency models, curricula, and new learning methodologies and technology-based learning. Please note that there is a large body of work completed on industry competencies and skills from a variety of sources, so in order to avoid duplication of efforts, ETA will work with grantees to connect them to resources to support this work.

Employer Services. STEM employers may receive a variety of customized services that may include, but not be limited to:

• Recruiting and screening qualified STEM workers;

• Job listings;

• Limited incumbent worker training and linkage to other training resources (see definition of limited in Part I(C), Project Scope and Allowable Activities);

• Customized labor market information; and

• Job retention services such as mentoring and other services.

In addition to receiving these services, it is ETA's expectation that regional STEM employers will be actively engaged in the project and should participate fully in grant activities including: (1) Helping to define the STEM Centers of Excellence strategy and approach; (2) identifying needed skills and competencies; (3) designing training approaches and curricula; (4) implementing project activities; (5) contributing financial support; and (6) where appropriate, hiring qualified STEM education and training graduates.

2. STEM Coaches

STEM Coaches, who may be site-based or virtual, will serve a critical function in the STEM Centers of Excellence, forging ties to STEM employers and linking program participants to STEM employment, education, and training opportunities. Each proposal must include funding of at least one STEM Coach, and these individuals will be required to have a diverse and unique set of skills that will be valuable to both the worker and the employer.

To be successful at cultivating productive relationships with STEM enterprises in the regional economy and assisting workers in preparation and employment in STEM occupations, the STEM Coach must have:

• Experience as a recruiter of STEM professionals or as a STEM educator, and an understanding of STEM employment, including understanding of STEM workforce needs, hiring processes, and applicable job market requirements for enterprises in their assigned regions; and

• Understanding of skills and competencies in STEM.

Key services for employers and participants provided by the STEM Coaches were addressed in the previous section (B.1) STEM One Stop Workforce Centers of Excellence.

3. STEM Mentors

Many people currently in STEM careers had access to professionals who were in similar fields and could provide advice and support to help them succeed. Youth graduating from multiple educational pathway programs and dislocated workers may lack that social capital. However, in this Initiative, STEM Mentors will serve in this critical function to remove obstacles to achievement and support participants along the STEM career ladder/lattice.

STEM Mentors, who may be virtual or site-based, will clarify and identify career development opportunities for STEM job seekers that support both the individual and employer objectives. The STEM Mentor may be someone who is currently employed by industry, enrolled in a STEM academic program, or a STEM retiree who is interested in supporting youth and dislocated workers. The Mentor will offer ongoing support to the newly placed employee in the content areas of STEM, and also will encourage the character qualities required in the workplace (e.g. motivation, problem-solving, teamwork, adaptability/flexibility, and dependability/reliability). In addition, Mentors may be asked to support participants in education and training, if needed.

The STEM Mentor will be required to fulfill the following functions:

a. Participate in self-paced/long distance/or classroom-based orientation for mentor program;

b. Engage in a 6-month or 1 year commitment with protégé;

c. Meet regularly with the STEM candidate/student; and

d. Communicate with STEM candidate/student on an as-needed basis.

STEM Coaches will recruit STEM Mentors and connect them to the appropriate protégé. Applicants will need to articulate recruitment and outreach strategies for STEM Mentors and describe the mentoring activities that will be available to STEM candidates/students.

4. Career Blueprint

Participants in this Initiative will develop and test the concept of a “Career Blueprint,” which is an intentional career development framework and map synchronized with the skills and competencies needed to advance along a STEM career pathway for all individuals at all ages and stages of their lives. While somewhat similar in concept to an Individual Development Plan or Individual Education Plan, the Career Blueprint will take a longer-range view of career planning and will be a template tool for designing and building a personal career pathway plan. In addition to identifying the first steps to attain an initial career goal, it will also include next steps and additional career goals along the individual's proposed career ladder or lattice. Individuals will be given tools to proactively manage their career through repeated engagement of career decision making and transition processes throughout their lives. The STEM Mentors and Coaches in this Initiative will be trained to assist participants with creating their Career Blueprint.

The Career Blueprint format will prompt the individual to plan for both work experiences and post-secondary education. For example, the Career Blueprint will suggest a range of options to consider, including work readiness credentials, pre-apprenticeships, internships, nontraditional apprenticeships, and on-the-job training. Post-secondary education at the community college level or above will be intertwined with the work experience components, rather than being considered a separate track. Lifelong learning, both formally and on-the-job, will be emphasized as an integral part of career planning.

5. Technical Assistance

Through the STEM Initiative, participating One Stop Career Centers and WIBs may receive ongoing intensive technical assistance (TA), at group meetings and individually, given by a cadre of STEM experts from a variety of organizations and Federal agencies. The STEM Initiative will also include the creation of a peer-to-peer learning community to give teams opportunities to share challenges and best practices. Technical assistance topics may include: Talent development of STEM Coaches, creation of nontraditional STEM apprenticeship programs, models of STEM career pathways, leveraging regional STEM resources, and best practices of STEM employer engagement. The STEM WIRED resource team, located in ETA, has documented many of the STEM resources and activities across agencies, foundations, associations, and the private sector and this document will serve as a resource for grantees.

At the end of the STEM Initiative, it is ETA's expectation that grantees will document best practices and lessons learned to disseminate widely to the workforce investment system to encourage and facilitate replication. In addition, grantees may serve as valuable resources for educational materials, ideas, contacts, and mentoring for the workforce system.

C. Use of Funds/Allowable Activities

STEM Initiative grants will be funded by H-1B fees as authorized under Sec. 414(c) of the American Competitiveness and Workforce Improvement Act of 1998 (Pub. L. 105-277, title IV) as amended by Public Law 108-447 (codified at 29 U.S.C. 2916a). These funds are focused on the development of the workforce and may be used to provide job training and related activities to workers to assist them in gaining the skills and competencies needed to obtain and upgrade career ladder employment in STEM related industry sectors and occupations projected to experience significant growth or significant demand for workers. Whether the focus is on an industry sector or an occupational area, training investments using grant funds should focus on workforce education in high-skill occupations requiring significant science, technology, engineering, and/or mathematics skills. Funds available under this Solicitation may only be used for projects that provide training in the occupations and industries for which employers use H-1B visas that generate these funds and the related activities limited to those necessary to support training in such occupations and industries. Please see the attached list of STEM-related occupations and industries that have been identified as those for which employers use H-1B visas to employ foreign workers. Activities funded under this Solicitation must be focused on developing skills and competencies related to the fields identified in the Attachment.

Funds may also be used to enhance the provision of job training services and information as authorized in 29 U.S.C. 2916(a)(2)(B). Therefore, allowable activities under this Initiative may include:

• STEM education and training;

• Hiring of STEM Coaches;

• Purchase of STEM-related assessments for the One Stop Career Centers;

• Educational preparation of participants for NSF scholarships and other funding opportunities;

• Coordination and support of STEM work-based learning opportunities for participants such as on-the-job training (OJT) and apprenticeships;

• Career guidance;

• STEM Employer Services such as job listings and matches, assessments, and interviewing and prescreening;

• Job preparation and placement activities;

• Recruitment and outreach materials and activities to multiple educational pathway programs, faith and community-based organizations and other entities;

• Development and implementation of Career Blueprints;

• Summer academic enrichment activities;

• Development of new formats and innovative learning approaches to STEM courses and activities that increase accessibility to occupational training for participants;

• Assessment of skill levels, aptitudes, abilities, and supportive service needs of individuals;

• Support for participants' STEM school preparation and critical transition points such as high school to college, between 2- and 4-year college, and from undergraduate study to the workplace;

• Travel and related expenses to STEM trainings;

• On-site or virtual capacity-related infrastructure expenses that support STEM activities in the One Stop Career Centers;

• Establishment and expansion of partnerships and collaborations in order to build the STEM capacity of the region;

• Support for visiting faculty and industry practitioners to the One Stop Career Centers and partnering organizations to provide STEM disciplinary and topical seminars;

• STEM asset analysis and mapping;

• Documentation and dissemination of STEM resources, knowledge, and lessons learned through the grant;

• Limited STEM incumbent worker training that directly contributes to career progression in a STEM career;

• Limited STEM course and curriculum development, revision, and enhancement to partnering alternative secondary schools and higher education institutions;

• Limited enhancement of STEM equipment available for educational opportunities for participants to partnering alternative secondary schools and higher education institutions; and

• Other activities directly in support of the development of the skills necessary for careers in STEM fields.

Please note that the intention of the STEM Initiative is not to utilize grant funds to develop curriculum, provide incumbent worker training, and/or purchase equipment; therefore, the term “limited” means that no more than 10 percent of grant funds may be used for such purposes, without further justification and approval from the Grant Officer. ETA encourages these types of activities and will expect that the applicant will leverage other resources to enhance the project capacity. The scope and size of the project will vary based on the number of individuals to be served through the STEM Centers of Excellence as well as the availability of other leveraged resources for participants and employers.

Proposed projects must clearly outline how the activities and resources will result in the achievement of the overall objectives of the Initiative. At a minimum, applications must:

• Coordinate and strategically align regional STEM workforce preparation, education and training, and employment activities, strategies, and resources (new and existing), that will result in significant and sustainable impacts;

• Increase accessibility and broaden participation of STEM education and training opportunities for disadvantaged youth and dislocated workers;

• Increase numbers of workers placed in STEM employment;

• Increase access for STEM employers to job candidates with sought after skills and background;

• Establish, expand, and enhance strategic partnerships with the workforce system and regional STEM employers, the continuum of education including the K-12 system, adult education, higher education institutions including community colleges and multiple educational pathway programs, faith and community-based organizations, industrial and national laboratories, and STEM professional associations to build the region's STEM expertise, financial, and operational capacities;

• Increase retention of STEM students/participants and employees through STEM Mentors;

• Test and model the concepts of Career Blueprints, STEM Coaches, STEM Mentors, and STEM Centers of Excellence; and

• Disseminate results of the STEM workforce system model.

II. Award Information

A. Award Amount

ETA intends to fund approximately 5-7 grants ranging from $1.5 million to $2 million through this competition. However, this does not preclude ETA from funding grants at either a lower or higher amount, or funding a smaller or larger number of projects, based on the type and the number of quality submissions. Applicants are encouraged to submit budgets for quality projects at whatever funding level is appropriate to their project. Nevertheless, applicants should recognize that the funds available through this solicitation are designed to complement additional leveraged resources rather than be the sole source of funds for the proposal.

B. Period of Performance

The period of grant performance will be up to 36 months from the date of execution of the grant documents. This performance period shall include all necessary implementation and start-up activities, participant follow-up for performance outcomes, and grant close-out activities. A timeline clearly detailing the required grant activities and their expected completion dates must be included in the Phase II proposal grant application. ETA may elect to exercise its option to award no-cost extensions to grants for an additional period, based on the success of the program and other relevant factors, if the grantee applies for, and provides a significant justification for, such an extension.

III. Eligibility Information and Other Grant Specifications

A. Eligible Applicants

An individual workforce investment board (WIB), representing a regional consortium of WIBs, is the eligible applicant. A WIB must submit an application on behalf of a specific, defined multi-county economic region comprised of various workforce investment areas that make up the consortium and demonstrate responsibility for administering the project. The application must demonstrate that the consortium of WIBs representing the region serve in partnership with this applicant, and should do so by submitting a letter of commitment in Phase I from each of the WIBs in the partnership. If the defined region is a rural area or a portion of a state whereby only one WIB exists, this exception must be explained in the Technical Proposal in Phase I. The grant application form (SF 424) should contain the information of the WIB that is serving as the grant recipient and must be signed by a duly authorized official.

Joint applications for regions that cross state lines will be accepted. Applications for multi-state regions must be from an individual WIB that will have responsibility for administering the project. The application must also demonstrate that the consortium of WIBs representing the multi-state region serve in partnership with this applicant, and should do so by submitting a letter of commitment in Phase I from each of the WIBs in the partnership.

Regional economies are typically defined as geographically contiguous areas. However, a proposal that persuasively makes an innovative case for a non-contiguous regional economy will be considered.

B. Cost Sharing or Matching

Cost sharing, matching, or cost participation is not required for eligibility; however, applicants are strongly encouraged to leverage resources from key entities in the strategic partnership in order to maximize the impact of the project in the region. Applicants should describe what resources, new and existing, may support the goals of the project and how they support STEM workers and employers. While the failure to offer leveraged resources as a part of an application will not preclude consideration of the application, it will place the applicant at a competitive disadvantage since one of the evaluation criteria in Phase II evaluates the quality of the leveraged resources. The identification of existing or planned STEM initiatives within the region that can be aligned and integrated with the applicant's proposed activities are also considered to be leveraged resources.

C. Other Grant Specifications

1. Required Partnerships. To be considered for funding, the applicant must demonstrate that the project will be implemented by a strategic partnership that includes at a minimum: (1) The publicly funded workforce investment system, which will be represented by a regional consortium of WIBs; (2) the continuum of education, which may include high schools and/or multiple educational pathway programs (alternative education), community colleges and universities; and (3) STEM employers and industry-related organizations such as associations.

ETA also encourages a broader partnership that may include major national laboratories and centers, private foundations, organizations that receive Federal STEM funding, and professional organizations that may align relevant financial and operational resources to support the goals of the Initiative. In addition, partnerships with faith-based and community organizations that provide recruitment and retention support to entry-level workers are also encouraged.

2. Regional STEM Analysis and Asset Mapping for Phase II Competition. In Phase II of the competition, applicants that show evidence of a regional STEM analysis, asset mapping, or inventory of STEM-related activities that support the goals of this Initiative will receive five bonus points. Applicants that do not show sufficient evidence will receive zero bonus points. Partial bonus points will not be awarded. To receive the bonus points, applicants need to document their analysis or inventory, which may include WIA funding, leveraged use of any of the multiple Federal agencies' STEM-related activities that are being implemented at the local and regional levels, state-based, foundation, and/or association initiatives. In addition, applicants must clearly describe the linkages of how these activities are going to expand, enhance, and/or be integrated into the proposed grant activities.

Please note that these bonus points will not be available in Phase I of the competition although articulating a clear understanding of the context of STEM in the applicant's regional economy will be a part of the evaluation criteria in both phases of the competition.

3. Veterans Priority. The Jobs for Veterans Act (Pub. L. 107-288) provides priority of service to veterans and spouses of certain veterans for the receipt of employment, training, and placement services in any job training program directly funded, in whole or in part, by the Department of Labor. In circumstances where a STEM Initiative grant recipient must choose between two equally qualified candidates for training, one of whom is a veteran, the Jobs for Veterans Act requires that STEM Initiative grant recipients give the veteran priority of service by admitting him or her into the program. Please note that, to obtain priority of service, a veteran must meet the program's eligibility requirements. ETA Training and Employment Guidance Letter (TEGL) No. 5-03 (September 16, 2003), provides general guidance on the scope of the Job for Veterans Act and its effect on current employment and training programs. TEGL No. 5-03, along with additional guidance, is available at the “Jobs for Veterans Priority of Service” Web site: http://www.doleta.gov/programs/vets.

IV. Application and Submission Information

A. Address To Request Application Package

This solicitation contains all of the information and Web links to forms needed to apply for grant funding.

B. Content and Form of Application Submission

The competition will be implemented in two phases; a preliminary phase (Phase I) and the full proposal phase (Phase II). The proposal must consist of two (2) separate and distinct parts, Parts I and II, for both phases of the competition. Applications that fail to adhere to the instructions in this section will be considered non-responsive and may not be given further consideration. Applicants who wish to apply do not need to submit a Letter of Intent. The completed application package is all that is required.

1. Phase I—Preliminary Proposal. In Phase I of the competition, Part I of the proposal is the Cost Proposal and must include the following three items:

• The Standard Form (SF) 424, “Application for Federal Assistance” (available at http://www.doleta.gov/sga/forms.cfm). The SF 424 must clearly identify the applicant and be signed by an individual with authority to enter into a grant agreement. Upon confirmation of an award, the individual signing the SF 424 on behalf of the applicant will be considered the Authorized Representative of the applicant.

• All applicants for Federal grant and funding opportunities are required to have a Data Universal Numbering System (DUNS) number provided by Dun and Bradstreet. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site, http://www.dunandbradstreet.com, or call 1-866-705-5711.

• The SF 424A Budget Information Form (available at http://www.doleta.gov/sga/forms.cfm. In preparing the Budget Information Form, the applicant must provide a brief narrative explanation to support the request. The budget narrative should be no more than 2 pages and should include: (1) The total amount leveraged from Federal sources; (2) the total amount leveraged from non-Federal sources; (3) the partners contributing the resources; and (4) the projected activities to be implemented utilizing these resources.

Please note that applicants that fail to provide a SF 424, SF 424A, and a budget narrative will be removed from consideration prior to the technical review process. If the proposal calls for integrating WIA or other Federal funds or includes other leveraged resources, these funds should not be listed on the SF 424 or SF 424A Budget Information Form, but should be described in the budget narrative. The amount of Federal funding requested for the entire period of performance (up to 36 months) should be shown together on the SF 424 and SF 424A Budget Information Form. Applicants are also encouraged, but not required, to submit OMB Survey N. 1890-0014: Survey on Ensuring Equal Opportunity for Applicants, which can be found at http://www.doleta.gov/sga/forms.cfm.

Part II of the application is the Technical Proposal, which demonstrates the applicant's capabilities to plan and implement the activities of the STEM Initiative in accordance with the provisions of this solicitation.

For Phase I of the competition, the Technical Proposal will be limited to six (6) double-spaced, single-sided, 8.5 inch × 11 inch pages with 12 point text font and one-inch margins, which includes a project summary and description. Applicants should number the Phase I Proposal beginning with page number one. Any pages over the 6-page limit will not be reviewed. Except for the discussion of any leveraged resources to address the evaluation criteria, no cost data or reference to prices should be included in the Phase I Proposal. This six-page Phase I Technical Proposal should consist of the following:

• Project Summary (1 page). The Summary is a critical proposal element that must make the essence of the project clear to the reviewer. It must succinctly identify: (1) Applicant name; (2) key strategies and project design including a description of the alignment of resources and activities and strategic impact (3) strategic partnerships, and (4) requested funding level. This is limited to one page.

• Project Description (5 pages). The narrative provides an overview of the Project Description and is limited in length to five pages. The Project Description should explain the proposed general project activities and strategic partnerships and should include the identification of the region, the specific need for the Federal investment such as the STEM employers' roles in and impact on the regional economy, roles of each partner, project design and activities including the STEM Centers for Excellence capacity building activities, STEM fields targeted, education and training activities, and project outcomes and impact. The evaluation criteria are described in further detail in section V(A).

2. Phase II—Full Proposal. In Phase II of the competition, Part I of the proposal is the Cost Proposal and must include the following three items:

• The Standard Form (SF) 424, “Application for Federal Assistance” (available at http://www.doleta.gov/sga/forms.cfm). The SF 424 must clearly identify the applicant and be signed by an individual with authority to enter into a grant agreement. Upon confirmation of an award, the individual signing the SF 424 on behalf of the applicant will be considered the Authorized Representative of the applicant.

• All applicants for Federal grant and funding opportunities are required to have a Data Universal Numbering System (DUNS) number provided by Dun and Bradstreet. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site, http://www.dunandbradstreet.com, or call 1-866-705-5711.

• The SF 424A Budget Information Form (available at http://www.doleta.gov/sga/forms.cfm. In preparing the Budget Information Form, the applicant must provide a concise narrative explanation to support the request. The budget narrative should include: (1) The total amount leveraged from Federal sources; (2) the total amount leveraged from non-Federal sources; (3) the partners contributing the resources; (4) the projected activities, broken out by the source of the leveraged resource (Federal or non-Federal) to be implemented utilizing these resources; (5) the amount of grant funds to be spent on direct training, and (6) cost per participant.

Please note that applicants that fail to provide a SF 424, SF 424A, and a budget narrative will be removed from consideration prior to the technical review process. If the proposal calls for integrating WIA or other Federal funds or includes other leveraged resources, these funds should not be listed on the SF 424 or SF 424A Budget Information Form, but should be described in the budget narrative and in Part II of the proposal. The amount of Federal funding requested for the entire period of performance (up to 36 months) should be shown together on the SF 424 and SF 424A Budget Information Form. Applicants are also encouraged, but not required, to submit OMB Survey N. 1890-0014: Survey on Ensuring Equal Opportunity for Applicants, which can be found at http://www.doleta.gov/sga/forms.cfm.

Part II of the Phase II application is the full Technical Proposal that is limited to twenty (20) double-spaced, single-sided, 8.5 inch x 11 inch pages with 12 point text font and one-inch margins. Applicants should number the Phase II Proposal beginning with page number one. Any pages over the 20-page limit will not be reviewed. In addition, in attachments, which may not exceed ten (10) pages, the applicant may provide resumes, a list of staff positions to be funded by the grant, statistical information, general letters of support, and other related material. Please note that applicants should not send letters of commitment or support separately to ETA because letters are tracked through a different system and will not be attached to the application for review. Additionally, the applicant must reference grant partners by organizational name in the text of the Phase II Proposal. Except for the discussion of any leveraged resources to address the evaluation criteria, no cost data or reference to prices should be included in the Phase II Proposal. In addition, the following information is required:

• A table of contents listing the application sections;

• A one to two-page timeline outlining project activities and an anticipated schedule for deliverables;

• A one to two-page abstract summarizing the proposed project and applicant profile information including: applicant name, project title, industry focus, partnership members, proposed education and training and STEM Centers of Excellence capacity building activities, funding level requested, the amount of leveraged resources, the target group(s), and a project description as described in the evaluation criteria in Section V(A) of this solicitation. The abstract should also clearly note how the consortium of WIBs and the region will be defined in the application and the points of access of delivery, i.e., the STEM Centers of Excellence, virtual or site-based for the region.

• A one to three-page summary of outcomes listing all projected STEM training, employment, and capacity building outcomes that includes the following:

• Training Outcomes. List the projected numbers for all training activities, including but not limited to: total enrollment in training program; increase in enrollment attributed to grant (number of additional students); the number of individuals trained in STEM occupations using grant dollars; the number of individuals trained as a result of leveraging of resources (e.g. training is paid through sources other than the grant or tuition, including Workforce Investment Act training resources such as customized training, ITAs, or pilot CAAs); entered employment; employment retention; average earnings; entered employment in industry related to training; number receiving promotions and/or wage gains; number participating in STEM work-based learning opportunities; number receiving credentials; and for youth, literacy and/or numeracy gains.

• Capacity Building Outcomes. For STEM Centers of Excellence, include: all products to be developed during the grant period; a list of capacity building products (including, but not limited to, curriculum and course materials, competency models and career ladders, career guidance and outreach materials, Career Blueprints, assessment, reports and databases, and program management and implementation tools to enhance infrastructure); the projected date the product will be completed; and the estimated number of individuals impacted or affected during the grant period.

• Impact Outcomes. Include information on how the project will: broaden participation of disadvantaged youth and dislocated workers in STEM fields; institutionalize new and different partnerships and resources developed under the grant; increase articulation agreements between multiple educational pathway programs (i.e. Alternative Education) and two-year colleges, or provide pathways from two-year colleges to four-year colleges or university programs; increase participation of STEM employers with the workforce system to address current and future needs in the region; improve alignment and coordination of regional STEM workforce preparation, education, and training activities; and advance workforce system knowledge of and activities in STEM education and training.

Please note that the abstract, summary of outcomes, table of contents, and timeline are not included in the Phase II Proposal page limitation, but have their own page limitations, listed above. Applications that do not provide Part II of the Phase II application may be removed from consideration prior to the technical review process.

Applications may be submitted electronically on www.grants.gov or in hardcopy via U.S. mail, professional overnight delivery service, or hand delivery. These processes are described in further detail in Part IV(C). Applicants submitting proposals in hardcopy must submit an original signed application (including the SF 424) and one (1) “copy-ready” version, free of bindings, staples, or protruding tabs to ease in the reproduction of the proposal by DOL. Applicants submitting proposals in hardcopy are also requested, though not required, to provide an electronic copy of the proposal on CD-ROM.

C. Submission Date, Times, and Addresses

The closing date for receipt of Phase I applications under this solicitation is March 11, 2008. Applicants receiving notice of recommendation to participate in Phase II of the competition will also receive information on the closing date for receipt of Phase II applications. For both phases of the competition, applications must be received at the address below or successfully submitted through grants.gov no later than 4 p.m. (Eastern Time). Applications sent by e-mail, telegram, or facsimile (fax) will not be accepted. Applications that do not meet the conditions set forth in this notice will not be honored. No exceptions to the mailing and delivery requirements set forth in this notice will be granted.

ETA will host a Virtual Prospective Applicant Conference for this grant competition on January 25, 2008 at 2 p.m. Eastern Time (ET). Registration for the Prospective Applicant Conference will be available at: http://www.workforce3one.org/public/webinars/details.cfm?id=266.

Mailed applications must be addressed to the U.S. Department of Labor, Employment and Training Administration, Division of Federal Assistance, Attention: Marsha Daniels, Reference SGA/DFA PY 07-03, 200 Constitution Avenue, NW., Room N-4716, Washington, DC 20210. Applicants are advised that mail delivery in the Washington area may be delayed due to mail decontamination procedures. Hand delivered proposals will be received at the above address.

Applicants may apply online through Grants.gov (http://www.grants.gov). Any application received after the deadline will not be accepted. It is strongly recommended that before the applicant begins to write the proposal, applicants immediately review the grants.gov website to include all frequently asked questions, and initiate and complete the “Get Started” steps to register at http://www.grants.gov/GetStarted. These steps may take several days to complete and should be factored into the plans for electronic application submission in order to avoid facing unexpected delays that could result in the rejection of the application. To ensure that the application is submitted on time, it is recommended that it is submitted multiple days before the due date in order to address any technical difficulties that may be encountered. It is the sole responsibility of the applicant to ensure timely submission. If submitted electronically through http://www.grants.gov, applicants must save the application file as a .doc, .xls or .pdf file.

Late Applications. Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) was sent by professional overnight delivery service or submitted on Grants.gov to the addressee not later than one working day prior to the date specified for receipt of applications. It is highly recommended that online submissions be completed one working day prior to the date specified for receipt of applications to ensure that the applicant still has the option to submit by professional overnight delivery service in the event of any electronic submission problems. “Post marked” means a printed, stamped, or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness. Evidence of timely submission by a professional overnight delivery service must be demonstrated by equally reliable evidence created by the delivery service provider indicating the time and place of receipt.

D. Intergovernmental Review

This funding opportunity is not subject to Executive Order (EO) 12372, “Intergovernmental Review of Federal Programs.”

E. Funding Restrictions

Determinations of allowable costs will be made in accordance with the applicable Federal cost principles. Disallowed costs are those charges to a grant that the grantor agency or its representative determines not to be allowed in accordance with the applicable Federal Cost Principles or other conditions contained in the grant. Successful or unsuccessful applicants will not be entitled to reimbursement of pre-award costs.

Limitations on Cost Per Participant. Because the costs of training may vary considerably depending on the skills and competencies required in different occupations in different industries, flexibility will be provided on cost per-participant. However, applications for funding will be reviewed to determine if the cost of the training is appropriate and will produce the outcomes identified. Applicants should demonstrate that the proposed cost per participant is aligned with existing price structures for similar training in the local area or other areas with similar characteristics. When calculating cost per participant, applicants must distinguish between non-training and training costs utilizing grant funds.

Indirect Costs. As specified in OMB Circular Cost Principles, indirect costs are those that have been incurred for common or joint objectives and cannot be readily identified with a particular cost objective. In order to utilize grant funds for indirect costs incurred, the applicant must obtain an Indirect Cost Rate Agreement with its Federal Cognizant Agency either before or shortly after the grant award.

Administrative Costs. Under the STEM Initiative, an entity that receives a grant to carry out a project or program may not use more than 10 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. To claim any administrative costs that are also indirect costs, the applicant must obtain an indirect cost rate agreement from its Federal cognizant agency as specified above.

Use of Funds for Supportive Services. Use of grant funds for supportive services, such as transportation and childcare, is not an allowable cost under this Solicitation for Grant Applications, including funds provided through stipends for such purposes.

Salary and Bonus Limitations. In compliance with Public Law 109-234 and Public Law 110-5, none of the funds appropriated in Public Law 109-149, Public Law 110-5, or prior Acts under the heading “Employment and Training” that are available for expenditure on or after June 15, 2006, shall be used by a recipient or sub-recipient of such funds to pay the salary and bonuses of an individual, either as direct costs or indirect costs, at a rate in excess of Executive Level II, except as provided for under section 101 of Public Law 109-149. This limitation shall not apply to vendors providing goods and services as defined in OMB Circular A-133. See Training and Employment Guidance Letter number 5-06 for further clarification: http://wdr.doleta.gov/directives/corr_doc.cfm?DOCN=2262.

Legal Rules Pertaining to Inherently Religious Activities by Organizations that Receive Federal Financial Assistance. The government is generally prohibited from providing direct financial assistance for inherently religious activities (please see 29 CFR part 2, subpart D). These grants may not be used for religious instruction, worship, prayer, proselytizing or other inherently religious activities except as provided in those regulations. Neutral, non-religious criteria that neither favors nor disfavors religion will be employed in the selection of grant recipients and must be employed by grantees in the selection of sub-recipients.

ETA Intellectual Property Rights. Applicants should note that grantees must agree to provide USDOL/ETA a paid-up, nonexclusive and irrevocable license to reproduce, publish, or otherwise use for Federal purposes all products developed or for which ownership was purchased under an award, including but not limited to curricula, training models, technical assistance products, and any related materials, and to authorize them to do so. Such uses include, but are not limited to, the right to modify and distribute such products worldwide by any means, electronically or otherwise.

F. Withdrawal of Applications

Applications may be withdrawn by written notice at any time before an award is made. Applications may be withdrawn in person by the applicant or by an authorized representative thereof, if the representative's identity is made known and the representative signs a receipt for the proposal.

V. Application Review Information

A. Evaluation Criteria

This section identifies and describes the criteria that will be used to evaluate the proposals in Phase I and Phase II of this competition. Distinct criteria and point values have been developed for each phase of the application process.

Phase I Rating Criteria
Criterion | Points
1. Statement of Need/Context | 25
2. Partnerships/Project Design | 35
3. Outcomes and Impact | 40
Total Points: | 100

1. Statement of Need/Context (25 points)

Applicants must articulate a clear and specific need for the Federal investment, identify the region in which the grant activities will take place and demonstrate knowledge of regional economic, business, education, and workforce development dynamics that contribute to talent development strategies in STEM-related industries in the region.

2. Partnerships/Project Design (35 points)

The applicant must identify proposed general project activities and strategic partnerships (new and existing), including the targeted STEM fields and the targeted populations to be served, and also include a preliminary description of how all activities, strategies, and resources will be coordinated and integrated by the consortium of WIBs through the STEM Centers of Excellence. In addition, proposals will be evaluated on the following:

• Has the applicant clearly articulated how the coordinated and strategically aligned regional STEM workforce preparation, education and training and employment activities, strategies and resources (new and existing) will result in significant and sustainable impacts and carry out the purposes of this solicitation?

• Has the applicant described clearly how the established, expanded, and enhanced strategic partnerships will build the region's STEM expertise, as well as the financial and operational capacities for the proposed project?

• Has the applicant described the recruitment and outreach efforts for targeted populations such as disadvantaged youth and dislocated workers?

3. Outcomes and Impact (40 points)

Applicants need to demonstrate a results-oriented approach to the STEM Initiative project by describing the proposed outcome measures relevant to measuring success and the long term impact of the project. In addition, proposals will be evaluated on the following:

• Has the applicant fully articulated how the proposed activities will result in the advancement of workforce system knowledge of and activities in STEM education and training?

• How do the proposed activities increase accessibility and broaden STEM education and training opportunities for disadvantaged youth and dislocated workers?

• Do the proposed project activities result in increased numbers in STEM employment and increased participation of STEM employers in the region?

Phase II Proposal Rating Criteria
Criterion | Points
1. Statement of Need/Context | 10
2. Strategic Partnerships | 20
3. Project Design and Implementation | 25
4. Outcomes and Impact | 30
5. Program Management, Organizational Capacity, and Budget | 15
6. Bonus: Regional STEM Analysis and Asset Mapping | 5
Total Points Possible | 105

1. Statement of Need/Context (10 points)

Under this criterion, applicants must fully articulate a clear and specific need for the federal investment and identify the region in which grant activities will take place. As part of the statement of need, applicants must demonstrate knowledge of regional economic, business, education, and workforce development dynamics that contribute to talent development strategies in STEM-related industries. In addition, applicants must:

• Describe the role of STEM employers in the local and regional economy and the impact of these employers on the regional economy;

• Demonstrate strong STEM employment opportunities in the local or regional labor market and the skills and competencies needed for these jobs;

• Identify STEM-related industries that are growing and expanding in the local and regional economy; and

• Describe efforts undertaken to date to coordinate and align resources for STEM activities and demonstrate why resources are needed to continue or begin those efforts.

2. Strategic Partnerships (20 points)

The applicant must demonstrate that the strategic partnership is a strong team of, at a minimum, the workforce system, the continuum of education, and STEM business and industry. Applicants must:

• Identify all partners and explain the meaningful and committed role that each partner will play in the project;

• Describe how new and existing partnerships will be engaged to coordinate STEM activities in the One Stop Career Centers;

• Elaborate on how leveraged resources and partnerships will achieve more significant impacts;

• Demonstrate existing coordination of partnerships or capacity to quickly establish these links;

• Demonstrate how established, expanded, or enhanced strategic partnerships with the workforce system and regional STEM employers, higher education institutions including community colleges, multiple educational pathway programs, faith and community-based organizations, industrial and national laboratories, and STEM professional associations build the region's STEM expertise, financial, and operational capacities; and

• Describe new or established articulation agreements between multiple educational pathway programs (i.e. Alternative Education) and two-year colleges, or providing pathways from two-year colleges to four-year colleges or university programs to enhance and expand the project.

Points for this criterion will be awarded based on several factors:

• The completeness of the partnership, based on project design (5 points);

• The degree of meaningful engagement of partners in project activities (5 points);

• The extent to which the applicant integrates partners' strengths and assets into project design and implementation (5 points); and

• The extent to which strategic partnerships expand the region's STEM-related capacities (5 points).

3. Project Design and Implementation (25 points)

The applicant must fully describe how the proposed project would be operationalized and how all activities, strategies, and resources will be coordinated by the consortium of WIBs through the STEM Centers of Excellence to support the STEM careers of participants while assisting STEM employers in remaining competitive in the regional economy. Elements in this section should address:

• The primary grant activities and how they will be designed and implemented in the STEM Centers of Excellence in order to achieve the initiative's key features, goals and objectives;

• Timeline for the proposed activities with measurable milestones;

• Capacity of One Stop Career Centers and WIB consortium to provide services and align resources;

• STEM fields targeted for project;

• Number of individuals and employers served and type of activities;

• Number of new partnerships created or existing partnerships expanded;

• The proposed innovative training and education activities and strategies targeting skills demanded by regional STEM employers;

• Development and implementation of a Career Blueprint and how it will support participants' long-term STEM career growth along a defined career pathway;

• Strategies for effective recruitment, mentoring, retention, and educational and training completion of participants, particularly the recruitment of disadvantaged youth and dislocated workers, including the role and responsibilities of STEM Coaches and Mentors;

• How the program will effectively identify and recruit STEM Mentors;

• How the project will identify and address the knowledge, skills, and competencies needed by the STEM workforce for the evolving, converging, and emerging industries;

• How this project will complement, enhance, or link to existing STEM efforts in the region;

• The integration of the proposed activities of the grant into broader regional economic development strategies; and

• Sustainability strategies and methods after DOL funding ends.

Points for this criterion will be awarded based on several factors:

• The completeness of the project description, and evidence that proposed activities will achieve the objectives of this solicitation, as described in Part I(C), including clear strategies for implementation and operalization (10 points);

• Evidence that the proposed activities test and model the concepts of Career Blueprint, STEM Coach, STEM Mentors, and STEM Centers of Excellence (5 points);

• Demonstrated capacity of One Stop Career Centers and WIB consortium to provide services and align resources (5 points);

• Evidence that the proposed activities clearly link to STEM efforts in the region (2 points); and

• The existence of a clear sustainability plan that will continue to support activities of the STEM Centers of Excellence beyond DOL funding (3 points).

4. Outcomes and Impact (30 points)

Applicants need to demonstrate a results-oriented approach to managing and operating the STEM Initiative project by fully describing the proposed outcome measures relevant to measuring success or impact of the project. Scoring on this criterion will be based on:

• A full and accurate description of project outcomes that includes baseline numbers for tracking progress, benchmarks of outcome goals, and the method(s) of evaluating impact (10 points). This description must include:

• Training and education outcomes including the adult common measures: job placement, retention, and average earnings;

• Identification of types of credentials that participants will earn as a result of the training and/or education;

• Identification of types of STEM work-based learning opportunities for participants;

• STEM Centers of Excellence capacity building outcomes such as competency models, career guidance materials, and Career Blueprint templates;

• The extent to which the project will broaden participation of disadvantaged youth and dislocated workers in STEM careers through new or more effective approaches, strategies, or models; and

• The increase in new and/or different partnerships to align STEM resources and activities.

• The extent to which outcomes are measurable, realistic, and consistent with the objectives of the project (10 points);

• Evidence that the proposed activities will contribute to the knowledge base on increasing the diverse and full participation of the STEM pipeline (5 points); and

• Demonstration of regional impact with regards to alignment of STEM resources, expertise, and programs (5 points).

5. Program Management, Organizational Capacity, and Budget (15 points)

To satisfy this criterion, applicants must describe their proposed project management structure including, where appropriate, the identification of a proposed project manager, discussion of the proposed staffing pattern, and the qualifications and experience of key staff members. Applicants should also show evidence of the use of data systems to track outcomes in a timely and accurate manner. The applicant should include a description of organizational capacity and the organization's track record in projects similar to that described in the proposal and/or related activities of the primary partners.

Scoring under this criterion will be based on the extent to which applicants provide evidence of the following:

• The time commitment of the proposed staff is sufficient to ensure proper direction, management, and timely completion of the project;

• The roles and contribution of staff, consultants, and collaborative organizations are clearly defined and linked to specific objects and tasks;

• The background, experience, and other qualifications of the staff are sufficient to carry out their designated roles;

• The applicant organization has significant capacity to accomplish the goals and outcomes of the project, including the ability to collect and manage data in a way that allows consistent, accurate, and expedient reporting; and

• The budget is sufficient to meet project goals.

6. Bonus: Regional STEM Analysis and Asset Mapping (5 bonus points)

Applicants that provide evidence of regional STEM analysis or inventory and linkages to the proposed project will receive five bonus points. Partial bonus points will not be awarded. Applicants must fully describe efforts undertaken to date to coordinate and align resources for STEM activities and demonstrate why resources are needed to continue or begin those efforts. The applicant must also provide evidence of any such efforts, including regional STEM analysis, asset mapping, or inventory of STEM-related activities that would support the goals of this Initiative.

VI. Award Administration Information

A. Review and Selection Process

Applications for STEM Initiative grants will be accepted after the publication of this announcement until the closing date for the Phase I and Phase II proposal submissions of the competition, respectively. In both phases, a technical review panel will make a careful evaluation of applications against the criteria set forth in section V(A) of this solicitation. These criteria are based on the policy goals, priorities, and emphases set forth in this solicitation. Up to 100 points may be awarded for a Phase I application, and up to 105 points may be awarded for a Phase II application, based on the required information described in section V(A) of this solicitation.

Phase I proposals provide an opportunity to assess the responsiveness of the project to the solicitation guidelines and the potential to compete successfully in the Phase II proposal review process. In Phase I, the ranked scores will serve as the primary basis for selection of applicants that will be recommended for participation in the Phase II proposal competition, in conjunction with other factors such as urban, rural, and geographic balance; industry balance; and which proposals are most advantageous to the Government. All applicants are required to submit Phase I proposals and after completion of the Phase I proposal review, applicants that are selected will receive a notice of recommendation to participate in the Phase II proposal competition as well as written comments on the Phase I proposal and other technical assistance. Please note that the applicant's notification of recommendation for submission of a Phase II proposal does not imply or confer approval of commitments, obligations, or awards on behalf of ETA or authorize the expenditure of funds.

In Phase II of the competition, a technical review panel will make careful evaluation of full proposal applications against the criteria set forth in section V(A) of this solicitation. The ranked scores will again serve as the primary basis for selection of applications for funding though other factors (such as urban, rural, and geographic balance; industry balance; the availability of funds, and which proposals are most advantageous to the Government) will also be considered. Applicants that only submit full proposals for Phase I will not be reviewed.

In both the Phase I and Phase II proposal reviews, proposals that are timely and responsive to the requirements of this solicitation will be rated against the criteria listed above for each phase by an independent panel comprised of representatives from DOL, other Federal agencies, STEM professionals and other peers. The panel results are advisory in nature and not binding on the Grant Officer in both phases of the competition, who may consider any information that comes to his attention. DOL may elect to award the grant(s) with or without prior discussions with the applicants. Should a grant be awarded without discussions, the award will be based on the applicant's signature on the SF 424, which constitutes a binding offer.

B. Award Notices

All award notifications will be posted on the ETA Homepage (http://www.doleta.gov). Applicants selected for award will be contacted directly before the grant's execution. Applicants not selected for award will be notified by mail.

C. Administrative and National Policy Requirements

1. Administrative Program Requirements

All grantees will be subject to all applicable Federal laws, regulations, and the applicable OMB Circulars. The grant(s) awarded under this solicitation will be subject to the following administrative standards and provisions, if applicable:

a. Workforce Investment Act—20 Code of Federal Regulations (CFR) part 667. (General Fiscal and Administrative Rules).

b. Non-Profit Organizations—OMB Circulars A-122 (Cost Principles) and 29 CFR part 95 (Administrative Requirements).

c. Educational Institutions—OMB Circulars A-21 (Cost Principles) and 29 CFR part 95 (Administrative Requirements).

d. State and Local Governments—OMB Circulars A-87 (Cost Principles) and 29 CFR part 97 (Administrative Requirements).

e. Profit Making Commercial Firms—Federal Acquisition Regulation (FAR)—48 CFR part 31 (Cost Principles), and 29 CFR part 95 (Administrative Requirements).

f. All entities must comply with 29 CFR parts 93 and 98, and, where applicable, 29 CFR parts 96 and 99.

g. The following administrative standards and provisions may also be applicable:

i. 29 CFR part 2, subpart D—Equal Treatment in Department of Labor Programs for Religious Organizations, Protection of Religious Liberty of Department of Labor Social Service Providers and Beneficiaries;

ii. 29 CFR part 30—Equal Employment Opportunity in Apprenticeship and Training;

iii. 29 CFR part 31—Nondiscrimination in Federally Assisted Programs of the Department of Labor—Effectuation of Title VI of the Civil Rights Act of 1964;

iv. 29 CFR part 32—Nondiscrimination on the Basis of Handicap in Programs and Activities Receiving or Benefiting from Federal Financial Assistance;

v. 29 CFR part 33—Enforcement of Nondiscrimination on the Basis of Handicap in Programs or Activities Conducted by the Department of Labor;

vi. 29 CFR part 35—Nondiscrimination on the Basis of Age in Programs or Activities Receiving Federal Financial Assistance from the Department of Labor;

vii. 29 CFR part 36—Nondiscrimination on the Basis of Sex in Education Programs or Activities Receiving Federal Financial Assistance;

vii. 29 CFR part 37—Implementation of the Nondiscrimination and Equal Opportunity Provisions of the Workforce Investment Act of 1998.

In accordance with section 18 of the Lobbying Disclosure Act of 1995 (Pub. L. 104-65) (2 U.S.C. 1611) non-profit entities incorporated under Internal Revenue Service Code section 501(c)(4) that engage in lobbying activities are not eligible to receive Federal funds and grants.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

D. Special Program Requirements

Evaluation. DOL may require that the STEM Initiative grantees participate in an evaluation of overall performance of the STEM Initiative. To measure the impact, ETA may arrange for or conduct an independent evaluation of the outcomes and benefits of the projects. Grantees must agree to make records on participants, employers and funding available, and to provide access to program operating personnel and participants, as specified by the evaluator(s) under the direction of ETA, including after the expiration date of the grant.

E. Reporting

The grantee is required to provide the reports and documents listed below:

Quarterly Financial Reports. A Quarterly Financial Status Report is required until such time as all funds have been expended or the grant period has expired. Quarterly reports are due 45 days after the end of each calendar year quarter. Grantees must use ETA's On-Line Electronic Reporting System.

Quarterly Progress Reports. The grantee must submit a quarterly progress report to the designated Federal Project Officer within 45 days after the end of each calendar year quarter. Two copies are to be submitted providing a detailed account of activities undertaken during that quarter. DOL may require additional data elements to be collected and reported on either a regular basis or special request basis. Grantees must agree to meet DOL reporting requirements. The quarterly progress report should be in narrative form and should include:

• General Grant Information, including a summary of grant activities and a status update on leveraged resources and strategic partner activities;

• A Grant Timeline that includes the progress of grant activities, the key deliverables for each quarter, and the products available each quarter;

• Grant Outcomes will include but are not limited to: Enrollment, number completed training, number of certificates awarded, ETA's Common Measures, including entered employment, employment retention, and average earnings; number entered into employment related to training; and number receiving wage gains and promotions;

• Highlights of Promising Approaches and Success Stories; and

• Description of Technical Assistance Needs.

Final Report. A draft final report must be submitted no later than 60 days prior to the expiration date of the grant. This report must summarize project activities, employment outcomes, and related results of the education and training of the STEM Initiative, and should thoroughly document capacity building and training approaches. The final report should also include copies of all deliverables, e.g. competency models, Career Blueprints, and career guidance materials. After responding to DOL questions and comments on the draft report, three copies of the final report must be submitted no later than the grant expiration date.

VII. Agency Contacts

For further information regarding this solicitation, please contact Marsha Daniels, Grants Management Specialist, Division of Federal Assistance, at (202) 693-3504 (Please note this is not a toll-free number). Applicants should fax all technical questions to (202) 693-2879 and must specifically address the fax to the attention of Marsha Daniels and should include SGA/DFA PY 07-03, a contact name, fax and phone number, and email address. This announcement is being made available on the ETA Web site at http://www.doleta.gov/sga/sga.cfm, at http://www.grants.gov, as well as the Federal Register.

VIII. Other Information

OMB Information Collection No. 1205-0458. Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. PLEASE DO NOT RETURN YOUR COMPLETED APPLICATION TO THE OMB. SEND IT TO THE SPONSORING AGENCY AS SPECIFIED IN THIS SOLICITATION.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Resources for the Applicant

DOL maintains a number of web-based resources that may be of assistance to applicants.

• The Web site for the Employment and Training Administration (http://www.doleta.gov), including information on Workforce Innovation in Regional Economic Development (WIRED) at www.doleta.gov/wired.

• “The STEM Workforce Challenge: The Role of the Public Workforce System in a National Solution for a Competitive Science, Technology, Engineering, and Mathematics (STEM) Workforce,” paper, Department of Labor, April 2007, available at http://www.doleta.gov/youth_services/.

• The Workforce ³ One Web site (http://www.workforce3one.org), is a valuable resource for information about demand-driven projects of the workforce investment system, educators, employers, and economic development representatives

• America's Service Locator (http://www.servicelocator.org) provides a directory of the nation's One-Stop Career Centers.

• Career Voyages (http://www.careervoyages.gov), a Web site targeted at youth, parents, counselors, and career changers that provides information about career opportunities in high-growth/high-demand industries.

• For more information on the work that ETA has undertaken on multiple education pathways, please go to: http://www.doleta.gov/youth%5Fservices/Alternative.cfm.

• Applicants are encouraged to review “Help With Solicitation for Grant Applications” (http://www.dol.gov/cfbci/sgabrochure.htm).

• For a basic understanding of the grants process and basic responsibilities of receiving Federal grant support, please see “Guidance for Faith-Based and Community Organizations on Partnering with the Federal Government” (http://www.whitehouse.gov/government/fbci/guidance/index.html).

Additional resources that may be beneficial for applicants are listed below:

• The U.S. Department of Education's Office of Vocational and Adult Education maintains a list of high school reform models that work, available here: http://www.ed.gov/about/offices/list/ovae/pi/hs/reform.html.

• “Building a Portfolio of High Schools: A Strategic Investment Toolkit,” paper, Jobs for the Future, February 2006, available at http://www.jff.org/Documents/StrategicToolkit.pdf.

• “Strengthening Transitions by Encouraging Career Pathways: A Look at State Policies and Practices,” paper, Community College Research Center, January 2006, available at http://ccrc.tc.columbia.edu/Publication.asp?UID=380.

• “Career Pathways: Aligning Public Resources to Support Individual and Regional Economic Advancement in the Knowledge Economy,” paper, Workforce Strategy Center, August 2006, available at http://www.workforcestrategy.org/publications/WSC_pathways8.17.06.pdf.

• “What Your Community Can Do to End Its Drop-Out Crisis: Learnings from Research and Practice,” paper, Center for Social Organization of Schools, Johns Hopkins University, May 2007, available at http://web.jhu.edu/CSOS/images/Final_dropout_Balfanz.pdf.

Signed at Washington, DC, this 3rd day of January, 2008.
Eric D. Luetkenhaus,
Employment and Training Administration, Grant Officer.

Attachment: H-1B Industry Sectors and Occupations

Industry Sectors:

Information Technology

• Computer Systems Design and Related Services.

• Software Development/Software Publishers.

• Data Processing Services.

• Information Services.

Telecommunications.

Scientific Research and Development Services (including biotechnology).

Scientific and Technical Consulting (including biotechnology).

Architecture, Engineering, Surveying.

Specialized Design Services.

Construction/Skilled Trades.

Finance, Insurance and Real Estate and Administrative Support Services

• Accounting, Tax Preparation, Bookkeeping & Payroll Services.

• Financial Investment.

• Securities & Commodity Brokerage/Contracts.

• Business Support Services.

• Insurance Carriers, Agencies, Brokerages, and Insurance and Employee Benefit Funds.

• Credit Intermediation.

Advanced Manufacturing

• Semiconductor and Other Electronic Component Manufacturing.

• Computer, Electronic Product, and Peripheral Equipment Manufacturing.

• Pharmaceutical and Medicine Manufacturing.

• Communications Equipment Manufacturing.

• Navigational, Measuring, Electromedical, and Control Instruments Manufacturing.

• Industrial Machinery Manufacturing.

• Aerospace Manufacturing.

• Chemical and Petrochemical Manufacturing.

• Motor Vehicle and Parts Manufacturing.

• Medical Equipment and Supplies Manufacturing.

• Metalworking Manufacturing.

• Food Manufacturing.

• Other Miscellaneous Manufacturing.

Automotive Repair/Maintenance

Health Care

• General Medical and Surgical Hospitals and Other Hospitals.

• Offices of Physicians.

• Offices of Dentists.

• Offices of Other Health Practitioners.

• Medical and Diagnostic Laboratories.

• Nursing and Residential Care Facilities.

• Home Health Care Services.

Energy

• Electric Power Generation, Transmission, and Distribution.

• Oil & Gas Extraction, Refining, and Production.

• Mining and Support Activities for Mining.

• Pipeline Transportation.

Transportation

• Air Transportation.

• Freight and Truck Transportation.

• Water Transportation.

• Transportation Support.

Cross-Cutting Occupations

Computer Related Occupations

• Systems Analysis and Programming.

• Data Communications and Networks.

• Computer Systems Technical Support.

• Computer Systems User Support.

Engineering and Related Technical Occupations

• Aeronautical.

• Electrical.

• Civil.

• Ceramic.

• Mechanical.

• Chemical.

• Mining and Petroleum.

• Metallurgy and Metallurgical.

• Industrial.

• Agricultural.

• Marine.

• Nuclear.

• Drafters.

• Surveying/Cartographic.

• Architectural.

Occupations in Mathematics and Physical Sciences

• Mathematics.

• Astronomy.

• Chemistry.

• Physics.

• Geology.

• Meteorology.

Occupations in Life Sciences

• Agricultural Sciences.

• Biological Sciences.

Occupations in Medicine and Health

• Physicians/Surgeons.

• Osteopaths.

• Dentists.

• Veterinarians.

• Pharmacists.

• Registered Nurses.

• Therapists.

• Dieticians.

• Medical and Dental Technology.

• Other Health Care Practitioners.

Occupations in Financial and Administrative Fields

• Accountants/Auditors.

• Bookkeepers/Payroll Services.

• Budget and Management Systems Analysis.

• Finance, Insurance, and Real Estate Management.

• Purchasing Managers.

• Agents/Appraisers.

Technology Related Occupations

• Process Technicians.

• Mechanics/Mechanical Engineering Technicians.

[FR Doc. E8-473 Filed 1-14-08; 8:45 am]

BILLING CODE 4510-FN-P